DEPARTMENT OF COMMERCE

National Oceanic and Atmospheric Administration

[I.D. 081705D]

Atlantic Highly Migratory Species; Meeting of Atlantic Highly Migratory Species and Billfish Advisory Panels; Nominations for Atlantic Highly Migratory Species and Billfish Advisory Panels

AGENCY: National Marine Fisheries Service (NMFS), National Oceanic and Atmospheric Administration (NOAA), Commerce.

ACTION: Notice; advisory panel meetings; request for nominations.

SUMMARY: NMFS will hold a joint three day Highly Migratory Species Advisory Panel (HMS AP) and Billfish Advisory Panel (Billfish AP) meeting in October 2005. Additionally, NMFS solicits nominations for the HMS AP and the Billfish AP. The intent of these joint Advisory Panels meetings is to consider alternatives for the conservation and management of HMS as presented in the Draft Consolidated HMS Fishery Management Plan, Draft Environmental Impact Statement, and proposed rule.

DATES: The joint HMS-Billfish AP meeting will be held from 1 p.m. to 5 p.m. on Tuesday, October 11, 2005; from 8 a.m. to 5 p.m. on Wednesday, October 12, 2005; and from 8 a.m. to 5 p.m. on Thursday, October 13, 2005.

Nominations must be submitted on or before October 27, 2005.

ADDRESSES: The meetings will be held at the Holiday Inn, 8777 Georgia Avenue (Rt. 97), Silver Spring, MD 20910; phone: 301-589-0800.

You may submit nominations and requests for the AP Statement of Organization, Practices, and Procedures by any of the following methods:

• Email: SF1.081705D@noaa.gov. Include in the subject line the following identifier: I.D. 081705D.

• Mail: Margo Schulze-Haugen, Chief, Highly Migratory Species Management Division, NMFS, 1315 East-West Highway, Silver Spring, MD 20910.

• Fax: 301-713-1917.

FOR FURTHER INFORMATION CONTACT: Othel Freeman or Heather Stirratt at 301 713-2347.

SUPPLEMENTARY INFORMATION:

Introduction

The Magnuson-Stevens Fishery Conservation and Management Act (Magnuson-Stevens Act), 16 U.S.C. 1801 et seq., as amended by the Sustainable Fisheries Act, Public Law 104-297, provided for the establishment of Advisory Panels (AP) to assist in the collection and evaluation of information relevant to the development of any FMP or FMP amendment. NMFS consults with and considers the comments and views of an HMS AP when preparing and implementing FMPs or FMP amendments for Atlantic tunas, swordfish, and sharks, and consults with a Billfish AP for Atlantic billfish plans and amendments. These APs have previously consulted with NMFS on the HMS FMP (April 1999), Amendment 1 to the HMS FMP (December 2004), and Amendment 1 to the Billfish FMP (April 1999).

Nominations are being sought to fill one-third of the posts on the HMS AP for a 3-year appointment and one-half of the posts on the Billfish AP for a 2-year appointment. The nomination process, and appointments are set forth in the Statement of Organization, Practices, and Procedures for each AP.

Additionally, a specific nomination request is being solicited for a vacant seat on the HMS AP. Nominations for this seat should have definable interests and commercial expertise for the Caribbean region.

Procedures and Guidelines

A. Nomination Procedures for Appointments to the Advisory Panels

Individuals with definable interests in the recreational and commercial fishing and related industries, environmental community, academia, governmental entities, and non-governmental organizations will be considered for membership in each AP.

Nominations are invited from all individuals and constituent groups. Nominations should include:

1. The name of the applicant or nominee and a description of their interest in HMS or one species in particular from among sharks, swordfish, tunas, and billfish;

2. A statement of background and/or qualifications;

3. The AP to which the applicant seeks appointment;

4. A written commitment that the applicant or nominee shall actively participate in good faith in the tasks of the AP; and

5. Outreach resources.

Tenure for the HMS AP

Member tenure will be for 3 years (36 months), with one-third of the members= terms expiring on the last day of each calendar year. However, the tenure of the individual filling the vacant seat will be for 3 years and 3 months (39 months).

Tenure for the Billfish AP

Member tenure will be for 2 years (24 months), with one-half of the terms expiring on the last day of each calendar year.

B. Participants

Nominations for each AP will be accepted to allow representation from recreational and commercial fishing interests, the conservation community, and the scientific community. The HMS AP consists of not less than 23 members who are knowledgeable about the fisheries for Atlantic HMS species. The Billfish AP consists of not less than nine members who are knowledgeable about the fisheries for Atlantic billfish species.

NMFS does not believe that each potentially affected organization or individual must necessarily have its own representative, but each area of interest must be adequately represented. The intent is to have a group that, as a whole, reflects an appropriate and equitable balance and mix of interests given the responsibilities of each AP. Criteria for membership include one or more of the following: (1) experience in the recreational fishing industry involved in catching swordfish, tunas, billfish, or sharks; (2) experience in the commercial fishing industry for HMS; (3) experience in fishery-related industries (marinas, bait and tackle shops); (4) experience in the scientific community working with HMS; and/or (5) representation of a private, non-governmental, regional, (non-Federal) state, national, or international organization representing marine fisheries, environmental, governmental or academic interests dealing with HMS.

Five additional members in each AP include one voting member representing each of the following Councils: New England Fishery Management Council, the Mid-Atlantic Fishery Management Council, the South Atlantic Fishery Management Council, the Gulf of Mexico Fishery Management Council, and the Caribbean Fishery Management Council. The AP also includes 22 ex officio participants: 20 representatives of the constituent states and two representatives of the constituent interstate commissions (the Atlantic States Marine Fisheries Commission and the Gulf States Marine Fisheries Commission).

NMFS will provide the necessary administrative support, including technical assistance, for each AP. However, NMFS will not compensate participants with monetary support of any kind. Depending on availability of funds, members may be reimbursed for travel costs related to the AP meetings.

C. Meeting Schedule

Meetings of each AP will be held as frequently as necessary but are routinely held once each year in the spring. Often the meetings are held jointly, and may be held in conjunction with other advisory panel meetings or public hearings.

The October 2005 joint HMS-Billfish AP meeting will focus on management alternatives for Atlantic tunas, swordfish, sharks, and billfish. The proposed rule and draft HMS FMP describe a range of management measures that could impact fishermen and dealers for all HMS fisheries. These management measures include those to: establish mandatory workshops for fishermen and dealers; consider methods of modifying and establishing time/area closures; address rebuilding and/or overfishing of northern albacore tuna, finetooth sharks, and Atlantic billfish; simplify the management process of bluefin tuna; change the fishing year for tunas, swordfish, and billfish back to a calendar year; authorize additional fishing gears; and clarify existing regulations. In addition to these management measures, NMFS also announces its decision: to not include the no sale provision for the artisanal handline fishery in Puerto Rico, as outlined in the 1988 Atlantic Billfish FMP in the HMS FMP; to formally withdraw the proposed rule to establish an annual domestic recreational landing limit of 250 Atlantic blue and white marlin, combined (September 17, 2003, 68 FR 54410); and to consider a Petition for Rulemaking regarding a closure of bluefin tuna spawning grounds within the draft HMS FMP.

Special Accommodations

These meetings are physically accessible to people with disabilities. Requests for sign language interpretation or other auxiliary aids should be directed to Othel Freeman or Heather Stirratt (FOR FURTHER INFORMATION CONTACT) at least 7 days prior to the meeting.

Authority: 16 U.S.C. 971 et seq. and 1801 et seq.

Dated: September 6, 2005.
Emily Menashes,
Acting Director, Office of Sustainable Fisheries, National Marine Fisheries Service.

[FR Doc. 05-17988 Filed 9-9-05; 8:45 am]

BILLING CODE 3510-22-S